DEPARTMENT OF COMMERCE

National Telecommunications and Information Administration

Docket No. 071018612-7613-01

Privacy Act of 1974; System of Records

AGENCY: National Telecommunications and Information Administration (NTIA), Department of Commerce

ACTION: Notice of a New Privacy Act System of Records: COMMERCE/NTIA-1, Applications Related to Coupons for Digital-to-Analog Converter Boxes

SUMMARY: This notice announces the Department of Commerce's (Department) proposal for a new system of records under the Privacy Act. The National Telecommunications and Information Administration (NTIA) is creating a new system of records for applications related to coupons for the Digital-to-Analog Converter Box program. Information will be collected from individuals under the authority of Title III of the Deficit Reduction Act of 2005, Pub. L. No. 109-171, 120 Stat. 4, 21 (Feb. 8, 2006) (hereinafter “the Act”) and pursuant to regulations published by NTIA in 47 C.F.R. § 301. This new system of records is necessary to identify those households that qualify for and receive coupons towards the purchase of a digital-to-analog converter box.

DATES: To be considered, written comments must be submitted on or before December 26, 2007. Unless comments are received, the new system of records will become effective as proposed on the date of publication of a subsequent notice in the Federal Register.

ADDRESSES: Written comments may be mailed to Stacy Cheney, Attorney-Advisor, Office of the Chief Counsel, National Telecommunications and Information Administration, Room 4713, 1401 Constitution Avenue, N.W., Washington, DC 20231. Paper submissions should also include on a three and one-half inch computer diskette an electronic version of the comments in HTML, ASCII, Word, or WordPerfect format. Diskettes should be labeled with the name and organizational affiliation of the filer, and the name of the word processing program (and version) used to create the document. In the alternative, comments may be submitted electronically to the following electronic mail address: sor-comments@ntia.doc.gov. Comments submitted via electronic mail also should be submitted in one or more of the formats specified above. Comments will be posted on NTIA's website at www.ntia.doc.gov/.

FOR FURTHER INFORMATION CONTACT: Stacy Cheney, Attorney-Advisor, Office of the Chief Counsel, National Telecommunications and Information Administration, Room 4713, 1401 Constitution Avenue, N.W., Washington, DC 20231.

SUPPLEMENTARY INFORMATION: NTIA is creating a new system of records for applications related to coupons for the Digital-to-Analog Converter Box program. The Digital Television and Public Safety Act of 2005 provides that households may receive coupons towards the purchase of digital-to-analog converter boxes by making a request as required by Section 301 of NTIA's regulations. 47 C.F.R. § 301. The regulations permit households to request these coupons through an application process. Converter boxes are an option for consumers who wish to continue receiving full-power broadcast programming over the air using analog-only television sets after February 17, 2009 the date the law requires full-power television stations to cease analog broadcasting. Without converter boxes, consumers with analog-only television sets not served by cable, satellite, or other pay service will be unable to view digital television broadcasts over the air.

To help consumers who wish to continue receiving over-the-air broadcast programming using analog-only televisions not connected to cable or satellite service, Congress passed the Act which authorized NTIA to create a digital-to-analog converter box assistance program. The Act states that, as part of the program, eligible U.S. households may obtain no more than two coupons worth $40 each to apply towards the purchase of CECBs. To implement the Act's requirements, NTIA published regulations in 47 C.F.R. § 301 setting forth the household application process.

To support effective implementation of the program, the Act and the regulations require certain information to be collected from households that request coupons. Personally identifiable information will be collected. The personal information collected is pertinent to the implementation of the coupon program and will only be used for the coupon program. See 47 C.F.R. § 301.

COMMERCE/NTIA-1

System Name: Applications Related to Coupons for Digital-to-Analog Converter Boxes

Security Classification: None.

System Locations: Converter Box Applicants' Household Information will be maintained by NTIA's Contractor, International Business Machines (IBM) at its Place(s) of Performance: Kansas City, KS; Wichita, KS; and Beverton, OR.

Categories of Individuals Covered by the System: Households.

Categories of Records in the System --The following information is collected and/or maintained by NTIA and/or its Contractor: Households. 47 C.F.R. § 301 requires consumers to submit an application to NTIA's Contractor that contains the following information to demonstrate the household's eligibility to receive a digital-to-analog converter box coupon: (1) name; (2) address; (3) the number of coupons requested; and (4) a certification as to whether the household receives cable, satellite, or other pay television.

Authorities for Maintenance of the System: Title III of the Deficit Reduction Act of 2005, Pub. L. No. 109-171, 120 Stat. 4, 21 (Feb. 8, 2006).

Purposes(s): The information is being collected from requesting households so that NTIA may provide the coupons to eligible households via the U.S. Postal Service, as required by the statute. This information is pertinent to the success of the Digital-to-Analog Converter Box program as required by the Act.

Routine Uses of Records Maintained in the System, Including Categories of Users and the Purpose of Such Uses:

These records may be disclosed as follows:

1. In the event that a system of records maintained by the Department to carry out its functions indicates a violation or potential violation of law or contract, whether civil, criminal or regulatory in nature and whether arising by general statute or particular program statute or contract, or rule, regulation or order issued pursuant thereto, or the necessity to protect an interest of the Department, the relevant records in the system of records may be referred to the appropriate agency, whether Federal, State, local or foreign, charged with the responsibility of investigating or prosecuting such violation or charged with enforcing or implementing the statute or contract, or rule, regulation or order issued pursuant thereto, or protecting the interest of the Department.

2. A record from this system of records may be disclosed as a routine use to a Federal, State, or local agency maintaining civil, criminal, or other relevant enforcement information or other pertinent information, such as current licenses, if necessary, to obtain information relevant to a Department decision concerning the assignment, hiring or retention of an individual, the issuance of a security clearance, the letting of a contract, or the issuance of a license, grant or other benefit.

3. A record from this system of records may be disclosed in the course of presenting evidence to a court, magistrate or administrative tribunal, including disclosures to opposing counsel in the course of settlement negotiations.

4. A record in this system of records may be disclosed to a Member of Congress submitting a request involving an individual when the individual has requested assistance from the Member with respect to the subject matter of the record.

5. A record in this system of records may be disclosed as a routine use to the Office of Management and Budget in connection with the review of private relief legislation as set forth in OMB Circular No. A-19 at any stage of the legislative coordination and clearance process as set forth in that Circular.

6. A record in this system of records may be disclosed to the Department of Justice in connection with determining whether the Freedom of Information Act (5 U.S.C. § 552) requires disclosure thereof.

7. A record in this system of records may be disclosed as a routine use to a contractor of the Department having need for the information in the performance of the contract, but not operating a system of records within the meaning of 5 U.S.C. § 552a(m).

8. A record in this system of records may be disclosed to appropriate agencies, entities, and persons when (1) it is suspected or confirmed that the security or confidentiality of information in the system of records has been compromised; (2) the Department has determined that, as a result of the suspected or confirmed compromise, there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Policies and Practices for Storing, Retrieving, Accessing, Retaining and Disposing of Records in the System:

1. Storage: Computerized database; CDs, and paper records are stored in file folders in locked metal cabinets and/or locked rooms.

2. Retrievability: Records are organized and retrieved by NTIA's Contractor using an internal identification number or the name of the applicant consumer; however, records can be accessed by any file element or any combination thereof.

3. Safeguards: The system of records is stored in a building with doors that are locked during and after business hours. Visitors to the facility must register with security guards and must be accompanied by Federal or authorized Contractor personnel, as applicable, at all times. Records are stored in a locked room and/or a locked file cabinet. Electronic records containing Privacy Act information are protected by a user identification/password. The user identification/password is issued to individuals as authorized by authorized personnel.

All electronic information collected and/or disseminated by NTIA's Contractor adheres to the following Federal Laws, Regulations, Acts, Executive Orders, Special Publications, Guidelines, DOC/NTIA Directives and Policies: DOC's IT Security Program Policy and Minimum Implementation Standards; DOC Information Technology Management Handbook; Appendix III, Security of Automated Information Resources, OMB Circular A-130; the Computer Security Act of 1987 (Pub. L. No. 100-235); DOC Security Manual, Chapter 18; Executive Order 12958, as amended; the Federal Information Security Reform Act of 2002 (Pub. L. No. 107-347); NIST SP 800-18, Guide for Developing Security Plans for Federal Information Systems; NIST SP 800-26, Security Self-Assessment Guide for Information Technology Systems; NIST SP 800-53, Recommended Security Controls for Federal Information Systems; and DOC Procedures and Guidelines in the Information Technology Management Handbook.

4. Retention and Disposal: All records are retained and disposed of in accordance with National Archive and Records Administration regulations (36 C.F.R. Chapter XII, Subchapter B - Records Management); Departmental directives and comprehensive records schedules.

System Manager(s) and Addresses: Anita Wallgren, NTIA, 1401 Constitution Avenue N.W., Room 4809, Washington, DC 20231.

Notification Procedure: Individuals seeking to determine whether information about themselves is contained in this system should address written inquiries to the System Manager listed above. Written requests must be signed by the requesting individual. Requestor must make the request in writing and provide his/her name, address, and date of the request and record sought. All such requests must comply with the inquiry provisions of the Department's Privacy Act rules which appear at 15 C.F.R. Part 4, Appendix A.

Record Access Procedures: Requests for access to records maintained in this system of records should be addressed to the same address given in the Notification section above. Note: Complete records for joint applications are made accessible to each applicant upon his/her request.

Contesting Record Procedures: The Department's rules for access, for contesting contents, and appealing initial determinations by the individual or entity concerned are provided for in 15 C.F.R. Part 4, Appendix A.

Record Source Categories: Information in this system will be collected from individuals applying for assistance or from an entity supplying related documentation regarding a certification.

Exemption Claims for System: None.

Dated: November 20, 2007.
Brenda Dolan,
Freedom of Information/Privacy Act Officer, U.S. Department of Commerce.

[FR Doc. E7-22951 Filed 11-23-07; 8:45 am]

BILLING CODE 3510-60-S